FEDERAL RETIREMENT THRIFT INVESTMENT BOARD

Sunshine Act; Notice of FRTIB Board Member Meeting

TIME AND DATE: 8:30 a.m. (Eastern Time) July 25, 2016.

PLACE: 10th Floor Board Meeting Room, 77 K Street NE., Washington, DC 20002.

STATUS: Parts will be open to the public and parts will be closed to the public.

MATTERS TO BE CONSIDERED:

Open to the Public

1. Approval of the Minutes of the June 27, 2016 Board Member Meeting

2. Monthly Reports

(a) Participant Activity Report

(b) Legislative Report

3. Quarterly Reports

(c) Investment Policy Report

(d) Budget Review

4. Target Architecture Plan

5. 2017-2021 Strategic Plan—Office of Enterprise Planning

6. Internal Audit Report

7. Review of EBSA Audits

8. Department of Labor Presentation

Closed to the Public

Information covered under 5 U.S.C. 552b(c)(9)(B) and (c)(10).

FOR FURTHER INFORMATION CONTACT: Kimberly Weaver, Director, Office of External Affairs, (202) 942-1640.

Dated: July 14, 2016.
Megan G. Grumbine,
General Counsel, Federal Retirement Thrift Investment Board.

[FR Doc. 2016-17141 Filed 7-15-16; 4:15 pm]

BILLING CODE 6760-01-P